DEPARTMENT OF LABOR

Employment and Training Administration

[TA-W-40,349]

Willamette Industries, Inc., (Currently Known as Weyerhaueser), Saginaw Planer, Saginaw, OR; Notice of Revised Determination on Reconsideration

By letter of May 4, 2002, the company requested administrative reconsideration regarding the Department's Negative Determination Regarding Eligibility to Apply for Worker Adjustment Assistance, applicable to the workers of the subject firm.

The initial investigation resulted in a negative determination issued on March 26, 2002, based on the finding that a survey of customers indicated that increased imports did not contribute importantly to worker separations at the subject firm. The denial notice was published in the Federal Register on April 5, 2002 (67 FR 16441).

The company requested further examination of the survey conducted by the Department of Labor (DOL) and also requested that a new survey be conducted if the initial survey was performed incorrectly.

The Department on further review of the survey results discovered that a major customer increased their reliance on imported lumber like or directly competitive with products produced at the subject plant during relevant period.

Conclusion

After careful review of the additional facts obtained on reconsideration, I conclude that increased imports of articles like or directly competitive with those produced at Willamette Industries, Inc., Saginaw Planer, Saginaw, Oregon contributed importantly to the declines in sales or production and to the total or partial separation of workers at the subject firm. In accordance with the provisions of the Act, I make the following certification:

All workers of Willamette Industries, Inc., Saginaw Planer, Saginaw, Oregon who became totally or partially separated from employment on or after November 2, 2000 through two years from the date of this certification, are eligible to apply for adjustment assistance under Section 223 of the Trade Act of 1974.

Signed in Washington, DC this 6th day of June 2002.
Edward A. Tomchick,
Director, Division of Trade Adjustment Assistance.

[FR Doc. 02-15747 Filed 6-20-02; 8:45 am]

BILLING CODE 4510-30-P